DEPARTMENT OF ENERGY

Bonneville Power Administration

Shelton-Kitsap Transmission Line Rebuild

AGENCY: Bonneville Power Administration (BPA), U.S. Department of Energy (DOE).

ACTION: Finding of no significant impact (FONSI) and floodplain statement of findings.

SUMMARY: This notice announces BPA's proposal to rebuild its existing Shelton-Kitsap No. 2 115-kilovolt (kV) transmission line as a double-circuit 230-kV line in the existing right-of-way (ROW), in order to improve system capability and reliability. BPA has prepared an Environmental Assessment (EA) (DOE/EA-1342) evaluating the proposed project. Based on the analysis in the EA, BPA has determined that the proposed action is not a major Federal action significantly affecting the quality of the human environment, within the meaning of the National Environmental Policy Act (NEPA) of 1969. Therefore, the preparation of an Environmental Impact Statement (EIS) is not required and BPA is issuing this FONSI.

A finding is included that there is no practicable alternative to locating the project within a 100-year floodplain.

ADDRESSES: For copies of this FONSI or the EA, please call BPA's toll-free document request line: 800-622-4520. It is also available at the BPA, Environment, Fish and Wildlife website: www.efw.bpa.gov.

FOR FURTHER INFORMATION, CONTACT: Dawn R. Boorse—KEC-4, Bonneville Power Administration, P.O. Box 3621, Portland, Oregon, 97208-3621; telephone number 503-230-5678; fax number 503-230-5699; e-mail drboorse@bpa.gov.

SUPPLEMENTARY INFORMATION: BPA's existing Shelton-Kitsap No. 2 115-kV transmission line is approximately 31 miles in length and is located in Mason and Kitsap Counties in Washington State. In addition to this 115-kV line, there are two existing 230-kV transmission lines in the corridor between BPA's Shelton Substation and its Kitsap Substation. To improve system capability and reliability, BPA is proposing a joint project with Puget Sound Energy (PSE) to rebuild BPA's existing Shelton-Kitsap No. 2 115-kV line as a double-circuit 230-kV line in the existing right-of-way. One circuit would replace the existing 115-kV line and would initially be operated at 115-kV. The other circuit would be a new circuit operated at 230 kV.

The new 230-kV circuit would be routed around BPA's Kitsap Substation and would interconnect with PSE's existing Kitsap-South Bremerton No. 3 line. The Kitsap-South Bremerton No. 3 line (constructed for 230 kV but currently operating at 115 kV) would be re-energized at 230 kV and terminated at a new 230/115-kV transformer at the South Bremerton Substation.

Transmission planning studies have shown that if one of the two existing 230-kV transmission lines to the Kitsap Substation or one of the two existing 230/115-kV transformers at Kitsap is out of service, the remaining facilities serving electrical loads on the Kitsap Peninsula could experience thermal loading beyond their rated capabilities. Thermal overloading of transmission facilities could result in failure or damage of equipment as well as violation of National Electrical Safety Code standards. These outage conditions may also cause system voltages to drop below acceptable levels and eventually lead to voltage collapse resulting in loss of load. BPA needs to correct and improve these conditions on its Shelton-Kitsap 115-kV line.

Construction of the proposed line would cause short-term construction-related impacts to land use, socioeconomic, visual, soils, and vegetation resources. These would include noise, dust, traffic disruption, erosion, and possible growth of noxious weeds in the ROW from ground surface and vegetation disturbance during construction. Temporary increases in the use of local motels/hotels, recreational parks, and campgrounds by construction workers, and short-term increases in local employment and spending in the local economy, would also occur. Minor visual impacts may occur from construction activities in certain locations along the ROW. Potential increases in soil erosion due to access road improvements, pole assembly and erecting, and clearing to provide access to work areas would occur. However, in the long term, erosion rates are expected to return to pre-construction rates.

Long-term impacts would be the removal of approximately 0.5 acre of young forested woodland, with accompanying loss of shade on a small non-fish-bearing stream at the site near the south side of the BPA Kitsap Substation on BPA property. The tree removal is necessary to route the line around the Kitsap Substation and interconnect with PSE's existing Kitsap-South Bremerton No. 3 line. The amount of clearing would be relatively small, and low-growing vegetation would regrow in the cleared area.

No impacts are expected to wetlands and floodplains, public health and safety, and cultural resources. During review of the Preliminary EA, the Squaxin Island Tribe discussed with BPA the presence of areas of cultural sensitivity in the project vicinity. A Draft Memorandum of Agreement between BPA and the Tribe has been prepared to ensure protection of the culturally sensitive areas.

BPA also studied the No Action Alternative. The No Action Alternative would be to continue with the current Dispatcher Standing Operating Order, which defines actions to be taken under peak load normal system and outage conditions to mitigate potential overload and low voltage conditions. BPA currently has an agreement with the U.S. Navy, whereby BPA, in an emergency, and for a very short duration, could connect the Navy's backup generators to BPA's transmission system while the problem was being repaired. However, since the agreement was put into place the region's electrical load has grown such that, even with the generators, the electrical system is inadequate to supply the needed electricity. In addition, if the Navy needs the generators for their own emergency purposes, they may cease support to BPA at any time. BPA's agreement with the Navy to use its generators expires in 2001 and will not be extended for the long term. Outages will occur if BPA experiences problems on the system without the rebuild.

The Proposed Action would not violate Federal, State, or local law or requirements imposed for protection of the environment. All permits are in place.

Floodplain Statement of Findings

This is a Floodplain Statement of Findings prepared in accordance with 10 CFR Part 1022. A Notice of Floodplain and Wetlands Involvement was published in the Federal Register on September 15, 2000, and a floodplain and wetlands assessment was incorporated in the EA (section 3.7). BPA is proposing to rebuild its existing Shelton-Kitsap No. 2 115-kV transmission line as a double-circuit 230-kV line in the existing right-of-way which crosses the 100-year floodplains of Johns Creek, Cranberry Creek, and Sherwood Creek. No impacts to the floodplains would occur because no construction activities within the floodplains would be associated with the proposed project, and their floodplain characteristics would not be altered. The proposed action conforms to applicable State or local floodplain protection standards.

BPA will endeavor to allow 15 days of public review after publication of this statement of findings before implementing the proposed action.

Determination

Based on the information in the EA, as summarized here, BPA determines that the proposed action is not a major Federal action significantly affecting the quality of the human environment within the meaning of NEPA, 42 U.S.C. 4321 et seq. Therefore, an EIS will not be prepared and BPA is issuing this FONSI.

Issued in Portland, Oregon, on January 17, 2001.
Robert W. Beraud,
Manager, Environmental Analysis.

[FR Doc. 01-2573 Filed 1-29-01; 8:45 am]

BILLING CODE 6450-01-U